SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: January 1-31, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists GF Registration for projects, described below, pursuant to 18 CFR 806, Subpart E for the time period specified above:

Grandfathering Registration Under 18 CFR part 806, subpart E:

1. Borough of Tyrone—Public Water Supply System, GF Certificate No. GF-202101147, Snyder Township, Blair County, Pa.; Sink Run; Issue Date: January 14, 2021.

2. Borough of Millheim—Millheim Borough Water Company, GF Certificate No. GF-202101148, Millheim Borough and Penn Township, Centre County, Pa.; Phillips Creek; Issue Date: January 14, 2021.

3. South Renovo Borough—Public Water Supply System, GF Certificate No. GF-202101149, Noyes Township, Clinton County, Pa.; Halls Run Reservoir and Well 1; Issue Date: January 14, 2021.

4. Geneva Farm Golf Course, Inc.—Geneva Farm Golf Club, GF Certificate No. GF-202101150, Street, Harford County, Md.; combined withdrawal from Wells 1, 2, and 3 and Irrigation Pond; Issue Date: January 22, 2021.

5. Kreamer Municipal Authority—Public Water Supply System, GF Certificate No. GF-202101151, Middlecreek Township, Snyder County, Pa.; Wells 4 and 9; Issue Date: January 22, 2021.

6. Saint Francis University, GF Certificate No. GF-202101152, Allegheny Township and Loretto Borough, Cambria County, Pa.; Wells 1 and 2; Issue Date: January 26, 2021.

7. McClure Municipal Authority—Public Water Supply System, GF Certificate No. GF-202101153, McClure Borough, Snyder County, Pa.; Wells 1, 3, and 4; Issue Date: January 26, 2021. Authority: Pub. L. 91-575, 84 Stat. 1509 et seq., 18 CFR parts 806 and 808.

8. SUEZ Water Pennsylvania Inc.—Dallas Operation, GF Certificate No. GF-202101154, Dallas Township, Luzerne County, Pa.; Country Club Well, Bunn Well, Haddonfield Well, and Snyder Well; Issue Date: January 26, 2021.

Dated: February 4, 2021.
Jason E. Oyler,
General Counsel and Secretary to the Commission.

[FR Doc. 2021-02682 Filed 2-9-21; 8:45 am]

BILLING CODE 7040-01-P